DEPARTMENT OF AGRICULTURE

Food and Nutrition Service

Agency Information Collection Activities—Identifying Program Components and Practices That Influence Supplemental Nutrition Assistance Program (SNAP) Application Processing Timeliness Rates

AGENCY: Food and Nutrition Service (FNS), USDA.

ACTION: Notice.

SUMMARY: In accordance with the Paperwork Reduction Act of 1995, this notice invites the general public and other public agencies to comment on this proposed new information collection.

DATES: Written comments must be received on or before June 24, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Rosemarie Downer, Food and Nutrition Service, U.S. Department of Agriculture, 3101 Park Center Drive, Room 1014, Alexandria, VA 22302. Comments may also be submitted via fax to the attention of Rosemarie Downer at 703-305-2576 or via email to rosemarie.downer@fns.usda.gov. Comments will also be accepted through the Federal eRulemaking Portal. Go to http://www.regulations.gov, and follow the online instructions for submitting comments electronically. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collection should be directed to Rosemarie Downer at 703-305-2129.

SUPPLEMENTARY INFORMATION: Title: Identifying Program Components and Practices that Influence Supplemental Nutrition Assistance Program (SNAP) Application Processing Timeliness Rates.

Form Number: Not Applicable.

OMB Number: Not Yet Assigned.

Expiration Date: Not Yet Determined.

Type of Request: New Collection.

Abstract: The Food and Nutrition Service (FNS) is responsible for administering the Supplemental Nutrition Assistance Program (SNAP) at the Federal level. An important aspect of SNAP administration is ensuring that eligible households have timely access to SNAP benefits. The Food and Nutrition Act of 2008, as amended (the Act), Sections 11(e)(3) and 11(e)(9) ¹ requires that initial SNAP applications be processed and benefits provided within 30 days of the application date, or within 7 days for expedited applications. FNS monitors compliance with statutory requirements through the SNAP Quality Control System (SNAP-QC). Results of these monitoring activities have indicated that a majority of States do not meet the acceptable performance criterion of a 95 percent application processing timeliness (APT) rate.

¹ http://www.fns.usda.gov/sites/default/files/snap/Food-And-Nutrition-Act-2008.pdf.

This study will examine policies, waivers, administrative practices, workflow, and processes associated with the APT rates of all 50 States and the District of Columbia. The primary purpose of this study is to determine best practices for facilitating high APT rates, and to identify State policy and procedural practices that hinder and facilitate high APT rates.

The study team will first review available State policy documents, procedure manuals, and administrative data. If these resources are not available from accessible sources, the study team will request these resources from SNAP offices/agencies. Following this review, the study team will collect quantitative and qualitative data via an online survey from the 50 States and the District of Columbia. The total annual burden for gathering documents, manuals, and administrative data and completing the survey is an annual total of 478.28 burden hours (468.49 for respondents and 9.8 hours for non-respondents) and 418 total annual responses (296 for respondents and 122 for non-respondents).

Affected Public: 357 State, Local and Tribal Government. Respondents from the 50 States and the District of Columbia. The specific respondent types will include: (a) 51 State SNAP agency representatives and (b) 306 managers, supervisors, or designated staff from local SNAP offices.

Estimated Number of Respondents: The total estimated number of respondents is 357. This number represents a State SNAP agency representative from each State and the District of Columbia, and a manager, supervisor, or designated staff from approximately 4 to 10 local SNAP offices within each State and the District of Columbia.

Estimated Number of Responses per Respondent: 1.170868 responses per respondent time annually. All State and local respondents will be asked to gather SNAP documents, manuals, and/or administrative data and to participate in one survey. Survey respondents will be given the option of completing the survey online or through a telephone interview.

Estimated Total Annual Responses: 418 total annual responses.

Estimated Time per Response: 1.144 hours per response.

Estimated Total Annual Burden on Respondents: 478.29 hours.

See the table below for estimated total annual burden for each type of respondent:

BILLING CODE 3140-30-P

Dated: April 15, 2016.
Telora T. Dean,
Acting Administrator, Food and Nutrition Service.

[FR Doc. 2016-09569 Filed 4-22-16; 8:45 am]

BILLING CODE 3410-30-C